DEPARTMENT OF THE INTERIOR

Bureau of Land Management

[AK-910-07-1739-NSSI]

Notice of Minor Amendments to the Charter of the Technical Advisory Panel for the North Slope Science Initiative and Call for Nominations

AGENCY: Bureau of Land Management, Alaska State Office.

ACTION: Notice of Minor Amendments to the Charter and Call for Nominations.

SUMMARY: This notice is published in accordance with section 9(a)(2) of the Federal Advisory Committee Act of 1972, Public Law 92-463. Notice is hereby given that the Charter for the Science Technical Advisory Panel for the North Slope Science Initiative is amended to reflect the implementing legislative language in section 348(d), Energy Policy Act of 2005, establishing the Science Technical Advisory Panel. This amendment is a minor technical change in accordance with 41 CFR 102-3.80(1). The North Slope Science Initiative is also seeking nominations for five, three-year appointments to the North Slope Science Technical Advisory Panel. Any individual or organization may nominate one or more persons to serve on the Science Technical Advisory Panel. Individuals may nominate themselves for Science Technical Advisory Panel membership.

The purpose of the Science Technical Advisory Panel is to provide advice on proposed inventory, monitoring and research functions related to the North Slope Science Initiative.

DATES: Submit nomination packets for positions to the address listed below no later than 30 days after date of publication of this notice in the Federal Register.

FOR FURTHER INFORMATION CONTACT: John Payne, Executive Director, North Slope Science Initiative, Bureau of Land Management, Alaska State Office, 222 West 7th Avenue, #13, Anchorage, Alaska 99513; phone (907) 271-3431, or e-mail: John_payne@ak.blm.gov. Additional information and nomination forms may also be obtained on the North Slope Science Initiative Web site: http://www.northslope.org.

SUPPLEMENTARY INFORMATION: The duties of the Science Technical Advisory Panel are solely advisory to the North Slope Science Initiative Oversight Group, which will give direction to the Science Technical Advisory Panel regarding priorities for decisions needed for the Department of the Interior's management. Duties could include the following:

a. Advise the Oversight Group on science planning and relevant research and monitoring projects;

b. Advise the Oversight Group on scientific information relevant to the Oversight Group's mission;

c. Review selected reports to advise the Oversight Group on their content and relevance;

d. Review ongoing scientific programs of North Slope Science member organizations on the North Slope at the request of the member organizations to promote compatibility in methodologies and complication of data;

e. Advise the Oversight Group on how to ensure that scientific products generated through the North Slope Science Initiative activities are of the highest technical quality;

f. Periodically review the North Slope Science Plan and provide recommendations for changes to the Oversight Group;

g. Provide recommendations for proposed North Slope Science Initiative funded inventory, monitoring and research activities to the Oversight Group;

h. Provide other scientific advice as requested by the Oversight Group; and,

i. Coordinate with groups and committees appointed or requested by the Oversight Group to provide science advice, as needed.

Any individual or organization may nominate one or more persons to serve on the Science Technical Advisory Panel. Individuals may nominate themselves for Science Technical Advisory Panel membership. You may obtain nomination forms from John Payne, Executive Director, North Slope Science Initiative, Bureau of Land Management, Alaska State Office, 222 West 7th Avenue, #13, Anchorage, Alaska 99513, or at http://www.northslope.org. To make a nomination, you must submit a completed nomination form, letters of reference from the represented interests or organizations, as well as any other information that speaks to the nominee's qualifications, to the Executive Director, North Slope Science Initiative. The Science Technical Advisory Panel is currently made up of 15 scientists and technical experts from diverse professions and interests that are serving rotating appointments ranging from 1 to 3 years. New appointments will be made for three years. This call for nominations is for five appointments to fill vacancies for those expiring appointments. Current appointees may be re-nominated. Nominations may be from scientists and technical experts from diverse professions and interests, including the oil and gas industry, subsistence users, Native Alaska entities, conservations organizations, wildlife management organizations, and academia, as determined by the Secretary. The specific scientific or technical expertise the nominee would like to represent should be identified in the letter of nomination and in the nomination form. The Executive Director will collect the nomination forms and letters of reference and distribute them to the members of the North Slope Science Initiative Oversight Group. The Executive Director will then forward recommended nominations to the Secretary, who has the responsibility for making the appointments.

Appointees will serve with monetary compensation, but may be reimbursed for travel and per diem expenses at current rates for Federal Government employees. The appointment term will be for three years.

Dated: October 31, 2007.
Thomas P. Lonnie,
State Director.

[FR Doc. E7-21680 Filed 11-2-07; 8:45 am]

BILLING CODE 4310-JA-P